OFFICE OF THE UNITED STATES TRADE REPRESENTATIVE

[Docket Number USTR-2018-0011; Dispute Number WT/DS436]

WTO Dispute Settlement Proceeding: United States Countervailing Measures on Certain Hot-Rolled Carbon Steel Flat Products From India

AGENCY: Office of the United States Trade Representative.

ACTION: Notice with request for comments.

SUMMARY: The Office of the United States Trade Representative (USTR) is providing notice that India has requested the establishment of a dispute settlement panel under the Marrakesh Agreement Establishing the World Trade Organization (WTO Agreement). That request may be found at www.wto.org in a document designated as WT/DS436/18. USTR invites written comments from the public concerning the issues raised in this dispute.

DATES: Although USTR will accept any comments received during the course of the dispute settlement proceedings, you should submit your comment on or before June 11, 2018 be assured of timely consideration by USTR.

ADDRESSES: USTR strongly prefers electronic submissions made through the Federal eRulemaking Portal: http://www.regulations.gov. Follow the instructions for submitting comments in Section III below. The docket number USTR-2018-0011. For alternatives to on-line submissions, please contact Sandy McKinzy at (202) 395-9483.

FOR FURTHER INFORMATION CONTACT: Assistant General Counsel Amanda Lee at 202-395-9589 or Assistant General Counsel Ryan Majerus at 202-395-0380.

SUPPLEMENTARY INFORMATION:

I. Background

Section 127(b)(1) of the Uruguay Round Agreements Act (URAA) (19 U.S.C. 3537(b)(1)) requires notice and opportunity for comment after the United States submits or receives a request for the establishment of a WTO dispute settlement panel. Pursuant to this provision, USTR is providing notice that the United States has requested a dispute settlement panel pursuant to the WTO Understanding on Rules Procedures Governing the Settlement of Disputes (DSU). Once the WTO establishes a dispute settlement panel, the panel will hold its meetings in Geneva Switzerland.

II. Major Issues Raised by India

On December 19, 2014, the WTO Dispute Settlement Body (DSB) adopted its recommendations and rulings in the dispute United States—Countervailing Measures on Certain Hot-Rolled Steel Flat Products from India (DS436). The DSB found that certain countervailing duty measures imposed by the United States on certain hot-rolled steel flat products imported from India (C-533-821) were inconsistent with its obligations under the Agreement on Subsidies and Countervailing Measures (SCM Agreement). The DSB recommended that the United States bring its measures into conformity with its obligations under the SCM Agreement.

The U.S. Department of Commerce (DOC) and the U.S. International Trade Commission (ITC) subsequently issued section 129 determinations. On April 28, 2016, the U.S. Trade Representative directed DOC to implement its determinations, pursuant to section 129 of the Uruguay Round Agreements Act (19 U.S.C. 3538(b)(4)). Notice of the completed implementation process was published in the Federal Register on May 6, 2016 as Implementation of Determinations Under Section 129 of the Uruguay Round Agreements Act (81 FR 27412).

On June 5, 2017, pursuant to an understanding on procedures under Articles 21 and 22 of the DSU, India requested consultations with the United States. You can find that at www.wto.org in a document designated as WT/DS436/17. The United States and India held consultations on July 13, 2017. On March 29, 2018, the United States received India's request for the establishment of a panel.

In its request for the establishment of a panel, India alleges that the DOC and ITC section 129 determinations are not consistent with the United States' obligations under Articles 1, 2, 10, 11, 12, 13, 14, 15, 19, 21, 22 and 32 of the SCM Agreement, as well as Article VI of the GATT 1994. India also alleges that the United States' failure to amend 19 U.S.C. 1677(7)(G)(iii) is inconsistent with Article 15 of the SCM Agreement.

III. Public Comments: Requirements for Submissions

USTR invites written comments concerning the issues raised in this dispute. All submissions must be in English and sent electronically via www.regulations.gov. To submit comments via www.regulations.gov, enter docket number USTR-2018-0011 on the home page and click “search.” The site will provide a search-results page listing all documents associated with this docket. Find a reference to this notice by selecting “Notice” under “Document Type” on the left side of the search-results page, and click on the link entitled “Comment Now!” For further information on using the www.regulations.gov website, please consult the resources provided on the website by clicking on “How to Use Regulations.gov” on the bottom of the home page.

The www.regulations.gov website allows users to provide comments by filling in a “Type Comment” field, or by attaching a document using an “Upload File” field. USTR prefers that comments be provided in an attached document. If a document is attached, it is sufficient to type “see attached” in the “Type Comment” field. USTR prefers submissions in Microsoft Word (.doc) or Adobe Acrobat (.pdf). If a submission is in an application other than those two, please indicate the name of the application in the “Type Comment” field.

For any comments submitted electronically containing business confidential information, the file name of the business confidential version should begin with the characters “BC”. Any page containing business confidential information must be clearly marked “BUSINESS CONFIDENTIAL” on the top and bottom of that page and the submission should clearly indicate, via brackets, highlighting, or other means, the specific information that is business confidential. If you request business confidential treatment, you must certify in writing that disclosure of the information would endanger trade secrets or profitability, and that the information would not customarily be released to the public. Filers of submissions containing business confidential information also must submit a public version of their comments. The file name of the public version should begin with the character “P”. The “BC” and “P” should be followed by the name of the person or entity submitting the comment. If this is no sufficient to protect business confidential information or otherwise protect business interests, please contact Sandy McKinzy at 202-395-9483 to discuss whether alternative arrangements are possible.

USTR may determine that information or advice contained in a comment, other than business confidential information, is confidential in accordance with section 135(g)(2) of the Trade Act of 1974 (19 U.S.C. 2155(g)(2)). If a submitter believes that information or advice is confidential, s/he must clearly designate the information or advice as confidential and mark it as “SUBMITTED IN CONFIDENCE” at the top and bottom of the cover page and each succeeding page, and provide a non-confidential summary of the information or advice.

Pursuant to section 127(e) of the URAA (19 U.S.C. 3537(e)), USTR will maintain a docket on this dispute settlement proceeding, docket number USTR-2018-0011, accessible to the public at www.regulations.gov. The public file will include non-confidential public comments USTR receives regarding the dispute. If a dispute settlement panel is convened, or in the event of an appeal from a panel, USTR will make the following documents publicly available at www.ustr.gov: The U.S. submissions and any non-confidential summaries of submissions received from other participants in the dispute. If a dispute settlement panel is convened, or in the event of an appeal from a panel, the report of the panel, and, if applicable, the report of the Appellate Body, will also be available on the website of the World Trade Organization, at www.wto.org.

Juan Millan,
Assistant United States Trade Representative for Monitoring and Enforcement, Office of the U.S. Trade Representative.

[FR Doc. 2018-10055 Filed 5-10-18; 8:45 am]

BILLING CODE 3290-F8-P